GENERAL SERVICES ADMINISTRATION

[Notice-MRB-2022-01; Docket No. 2022-0002; Sequence No. 4]

Notice of Intent To Establish a Federal Advisory Committee and Call for Nominations

AGENCY: Office of Government-wide Policy, General Services Administration (GSA).

ACTION: Notice.

SUMMARY: The General Services Administration (GSA) announces its intent to establish the GSA Acquisition Policy Federal Advisory Committee (hereinafter “the Committee” or “the GAP FAC”).

DATES: We will consider nominations that are submitted via email or postmarked by May 23, 2022.

ADDRESSES: Please submit nominations to Boris Arratia, or Stephanie Hardison, General Services Administration, Office of Government-wide Policy 1800 F Street NW, Washington, DC 20405; or send by email to gapfac@gsa.gov.

FOR FURTHER INFORMATION CONTACT: Boris Arratia, Office of Government-wide Policy, 703-795-0816, or email: boris.arratia@gsa.gov; or Stephanie Hardison, Office of Government-wide Policy, 202-258-6823, or email: stephanie.hardison@gsa.gov.

SUPPLEMENTARY INFORMATION: The Administrator of the U.S. General Services Administration (GSA) intends to establish the GSA Acquisition Policy Federal Advisory Committee (GAP FAC) as a discretionary advisory committee under agency authority in accordance with the provisions of the Federal Advisory Committee Act (FACA), as amended, 5 U.S.C. app 2.

As America's buyer, GSA is uniquely positioned to enable a modern, accessible, and streamlined acquisition ecosystem and a robust marketplace connecting buyers to the suppliers and businesses that meet their mission needs. The GAP FAC will assist GSA in this endeavor through expert advice on a broad range of innovative solutions to acquisition policy, workforce and industry partnership challenges.

The GAP FAC will serve as an advisory body to GSA's Administrator on how GSA can use its acquisition tools and authorities to target the highest priority Federal acquisition challenges. The GAP FAC will advise GSA's Administrator on emerging acquisition issues, challenges, and opportunities to support its role as America's buyer. The initial focus for the GAP FAC will be on driving regulatory, policy, and process changes required to embed climate and sustainability considerations in Federal acquisition. This includes examining and recommending steps GSA can take to support its workforce and industry partners in ensuring climate and sustainability issues are fully considered in the acquisition process.

The GAP FAC shall be composed of no less than ten (10) and no more than thirty (30) Federal and non-Federal members, with expertise in either acquisition, climate, and sustainability, and/or expertise in the intersection of acquisition, climate, and sustainability. GSA is most interested in perspectives of small business, science, manufacturing, engineering, academia, technology, law, State and local governments, independent associations or councils, and other appropriate industry sectors along with perspectives across the US Government. GSA values opportunities to increase diversity, equity, inclusion and accessibility on its federal advisory committees.

Advisory Committee

The GAP FAC will operate in accordance with the provisions of the Federal Advisory Committee Act (FACA) (5 U.S.C. app. 2). The GAP FAC will be solely advisory in nature. Consistent with FACA and its requirements, each meeting of the GAP FAC will be open to the public unless otherwise notified in accordance with the Government in the Sunshine Act. A notice of each meeting will be published in the Federal Register at least fifteen (15) days in advance of the meeting. Records will be maintained for each meeting and made available for public inspection. All activities of the GAP FAC will be conducted in an open, transparent, and accessible manner.

The GAP FAC is expected to be a continuing entity with charter renewals every two years. The first meeting date and agenda topics will be announced in the Federal Register at least fifteen (15) days prior to the first meeting date. In addition, as needed, working groups or subcommittees will be established to facilitate the GAP FAC's work between meetings of the full committee. Meetings of the GAP FAC will be fully accessible to individuals with disabilities.

Members will be designated as Regular Government Employees (RGEs), Special Government Employees (SGEs), or Representative members as appropriate. GSA's Office of General Counsel will assist the Designated Federal Officer (DFO) to determine the advisory committee member designations. In general, SGEs are experts in their field who provide Federal advisory committees with their own best independent judgment based on their individual expertise.

Representatives are members selected to represent a specific point of view held by a particular group, organization, or association. Members who are full-time or permanent part-time Federal civilian officers or employees shall be appointed to serve as Regular Government Employee (RGE) members. In accordance with OMB Final Guidance published in the Federal Register on October 5, 2011 and revised on August 13, 2014, federally registered lobbyists may not serve on the Committee in an individual capacity to provide their own individual best judgment and expertise, such as SGEs and RGEs members. This ban does not apply to lobbyists appointed to provide the Committee with the views of a particular group, organization, or association, such as a representative member.

Member Nominations

GSA invites nominations to serve on the Committee in the following disciplines related to acquisition policy and sustainability: Acquisition, small business, science, manufacturing, policy, management, engineering, academia, technology, and law. GSA encourages nominees who have a strong background and expertise in the following disciplines to apply: Sustainability; acquisition; energy and the environment; public policy; environmental policy, management, and technology; economics; social and behavioral science; green jobs, community environmental health; ecosystem services; public transportation; environmental law; U.S. public procurement law; Federal Acquisition Regulations (FAR); logistics; and supply chain management.

In the selection of members for the advisory committee, GSA will consider a cross-section of those directly affected, interested, and qualified, as appropriate to the nature and functions of the advisory committee. Membership will depend upon several factors, including: (i) The advisory committee's mission; (ii) The geographic, ethnic, social, economic, or scientific impact of the advisory committee's recommendations; (iii) The types of specific perspectives required, for example, such as those of consumers, technical experts, the public at-large, academia, business, or other sectors; (iv) The need to obtain divergent points of view on the issues before the advisory committee; and (v) The relevance of State, local, or tribal governments to the development of the advisory committee's recommendations.

Member Selection Criteria

The following selection criteria will be used to evaluate nominees:

Committee Members

(a) Educational background (e.g., degree in business, economics, law, public policy, or engineering);

(b) Professional experiences and accomplishments (e.g., projects, nature of work, or publications);

(c) Current employment and membership in associations or other activities (e.g., manufacturers, academia, and civil society organizations); and

(d) Subject matter expertise in the key issue the GAP FAC is examining for the current period.

(e) Willingness to commit time to the Committee and demonstrated ability to work constructively and effectively on committees;

Committee Chair

• Demonstrated credentials and disciplinary expertise in the acquisition field;

• Willingness to commit substantial time to the Committee and demonstrated ability to work constructively and effectively on committees;

• Background and experience helping engage people from different backgrounds work towards common objectives;

• Demonstrated ability to assess and analyze policy challenges with objectivity and integrity;

• Excellent interpersonal, oral, and written communication skills; and

• Excellent leadership and consensus-building skills.

All members will be appointed by the GSA Administrator, who will also select the Chair from among the members. Members will serve one (1) to three (3) year terms.

Miscellaneous

The GAP FAC will meet approximately four times per year. Such meetings will be open to the public unless an appropriate authority determines, in accordance with the FACA, that a meeting shall be closed or partially closed. The Committee will meet virtually with the potential exception of one in person meeting per year.

Committee members (including the Committee Chair) will not be compensated for their services and may be allowed travel expenses, including per diem, in accordance with 5 U.S.C. 5703. Regardless of the type of committee membership appointment, any travel expenses shall be paid at rates equivalent to that allowable to Federal employees.

Nomination Submissions

Any interested person and/or organization may nominate qualified individuals for membership. Individuals are also encouraged to self-nominate. The following items must be submitted in a nomination package:

(1) A letter of nomination stating the nominee's name and organizational affiliation(s), nominee's field of expertise, specific qualifications to serve on the Committee, and a brief statement of interest, including if the nominee is interested in serving as the Chair of the Committee;

(2) A professional resume or curriculum vitae (CV); and

(3) A short biography (no more than two paragraphs) describing the nominee's professional and educational qualifications, including a list of relevant activities and any current or previous service on advisory committees.

The letter of nomination, resume or CV, and a short biography should include the candidate's full name, address of the current organization, position title, email address, and daytime telephone number(s) of the nominee and nominator.

In preparing the letter of nomination, please describe how the nominee's background, knowledge, and experience will bring value to the work of the Committee and how these qualifications would contribute to the overall diversity of the Committee. Also, describe any previous involvement with GSA through employment, grant funding, and/or contracting sources, if applicable.

Nominations are due by May 23, 2022, and must be submitted via email to: gapfac@gsa.gov.

Boris Arratia,
Director, Regulatory Information Service Center, General Services Administration.

[FR Doc. 2022-08437 Filed 4-21-22; 8:45 am]

BILLING CODE 6820-61-P